DEPARTMENT OF TRANSPORTATION

Federal Highway Administration

[FHWA Docket No. FHWA-2000-7392]

Transportation Equity Act for the 21st Century; Implementation Guidance for the National Corridor Planning and Development Program and the Coordinated Border Infrastructure Program

AGENCY: Federal Highway Administration (FHWA), DOT.

ACTION: Notice; request for comments; solicitation of applications for fiscal year (FY) 2001 grants.

SUMMARY: This document provides implementation guidance on sections 1118 and 1119 of the Transportation Equity Act for the 21st Century (TEA-21). These sections established the National Corridor Planning and Development Program (NCPD program) and the Coordinated Border Infrastructure Program (CBI program). The NCPD and the CBI programs are funded by a single funding source. These programs provide funding for planning, project development, construction and operation of projects that serve border regions near Mexico and Canada and high priority corridors throughout the United States. States and metropolitan planning organizations (MPOs) are, under the NCPD program, eligible for discretionary grants for: Corridor feasibility; corridor planning; multistate coordination; environmental review; and construction. Border States and MPOs are, under the CBI program, eligible for discretionary grants for: Transportation and safety infrastructure improvements, operation and regulatory improvements, and coordination and safety inspection improvements in a border region.

DATES: Grant applications should be received by FHWA Division Offices on August 15, 2000. Specific information required in grant applications is provided in Section IV of this notice. Comments on program implementation should be sent as soon as reasonably possible. However, in recognition of the fact that legislative language may materially change the program implementation at any time, the FHWA will leave the docket open indefinitely. The FHWA will consider comments received in developing the FY 2002 solicitation of grant applications. More information on the type of comments sought by the FHWA is provided in Section III of this notice.

ADDRESSES: Your signed, written comments on program implementation for FY 2002 and beyond should refer to the docket number appearing at the top of this document and you must submit the comments to the Docket Clerk, U.S. Dockets, Room PL-401, 400 Seventh Street, SW., Washington, DC 20590-0001. All comments received will be available for examination at the above address between 9 a.m. and 5 p.m., e.t., Monday through Friday, except Federal holidays. Those desiring notification of receipt of comments should include a self-addressed, stamped envelope or postcard.

Applications for FY 2001 grants under the NCPD and CBI programs should be submitted to the FHWA Division Office in the State where the applicant is located.

FOR FURTHER INFORMATION CONTACT: For program issues: Mr. Martin Weiss, Office of Intermodal and Statewide Programs, HEPS, (202) 366-5010; or for legal issues: Mrs. Diane Mobley (for the NCPD program), Office of the Chief Counsel, HCC-31, (202) 366-1366; or Ms. Grace Reidy (for the CBI program), Office of the Chief Counsel, HCC-31, (202) 366-6226; Federal Highway Administration, 400 Seventh Street SW., Washington, DC 20590.

SUPPLEMENTARY INFORMATION:

Electronic Access

Internet users may access all comments received by the U.S. DOT Dockets, Room PL-401, by using the universal resource locator (URL): http://dms.dot.gov. It is available 24 hours each day, 365 days each year. Please follow the instructions online for more information and help.

An electronic copy of this document may be downloaded using a computer, modem and suitable communications software from the Government Printing Office's Electronic Bulletin Board Service at (202) 512-1661. Internet users may reach the Office of the Federal Register's home page at: http://www.nara.gov/fedreg and the Government Printing Office's web page at: http://www.access.gpo.gov/nara.

In addition, a number of documents and links concerning the NCPD and the CBI programs are available through the home page of the Corridor/Border Programs: http://www.fhwa.dot.gov/hep10/corbor/corbor.html.

Background

Sections 1118 and 1119 of the TEA-21, Public Law 105-178, 112 Stat. 107, at 161, established the NCPD and CBI programs, respectively. These programs respond to substantial interest dating from, as early as, 1991. In that year, the Intermodal Surface Transportation Efficiency Act (ISTEA), Public Law 102-240, 105 Stat. 1914, designated a number of high priority corridors. Subsequent legislation modified the corridor descriptions and designated additional corridors. Citizen and civic groups promoted many of these corridors as, for example, a means to accommodate international trade. Similarly, since 1991, a number of studies identified infrastructure and operation deficiencies near the U.S. borders with Mexico and Canada. Also various groups, some international and/or intergovernmental, studied opportunities to improve infrastructure and operations.

In 1997, the DOT's Strategic Plan for 1997-2002 was established. The strategic goals in this plan are: Safety, mobility, economic growth and trade, human and natural environment and national security. In 1998, the FHWA's National Strategic Plan was established. The strategic goals in this plan are mobility, safety, productivity, human and natural environment and national security. Both sets of goals are consistent with the language of TEA-21, including sections 1118 and 1119, and the FHWA emphasized these goals in selection of applications for allocations.

The NCPD and CBI programs are funded by a single funding source. The combined authorized funding for these two programs is $140 million in each year from FY 1999 to FY 2003 (a total of $700 million). The President's FY 2001 budget includes a proposal to increase funding for the NCPD and CBI programs to $280 million and to eliminate application of the obligation limitation from the programs. Until the congressional action on this proposal is completed, we will assume $140 million is available for obligation in FY 2001 and that these will be limited by the requirements of section 1102 (Obligation Ceiling) of the TEA-21. Furthermore, projects selected for funding may be affected by earmark language placed in Federal law. This was the case in FY 2000, as explained more completely in the subsection below entitled, “Summary of Selection Process.”

Under the NCPD program, funds are available to States and MPOs for coordinated planning, design, and construction of corridors of national significance, economic growth, and international or interregional trade. Under the CBI program, funds are available to border States and MPOs for projects to improve the safe movement of people and goods at, or across, the border between the United States and Canada, and the border between the United States and Mexico. In addition, the Secretary may transfer up to a total of $10 million of combined program funds, through FY 2001, to the Administrator of General Services for the construction of transportation infrastructure necessary for law enforcement in border States. Such transfer(s) will be made, based on funding requested and supporting information furnished by the Administrator of General Services. Finally, the Secretary of Transportation (the Secretary) will implement any provisions in legislation that directs that FY 2001 NCPD/CBI funds be used for specific projects. Based on the factors noted above (i.e., obligation limitations, transfer of funds to GSA and legislation), the FHWA anticipates that between $30 million and $130 million will be available for allocation for projects submitted in response to this notice. Should the current request in the President's FY 2001 budget be approved by the Congress, the amount available will approximately double.

The Federal share for these funds is set by 23 U.S.C. 120 (generally 80 percent plus the sliding scale adjustment in States with substantial public lands). The period of availability for obligation is the fiscal year for which the funds are authorized and the three years following. States which receive an allocation of funds under these programs will, at the same time, receive an increase in obligation authority equal to the allocation. Under section 1102 of TEA-21, obligation authority for discretionary programs that is provided during a fiscal year is extinguished at the end of the fiscal year. Funds allocated to projects which, under the NCPD/CBI programs, receive an obligation authority for FY 2001, must therefore be obligated during FY 2001 or be withdrawn for redistribution.

This notice includes four sections:

Section I—Program Background and Implementation of the NCPD/CBI discretionary program in FY 2000

Section II—Eligibility and Selection Criteria for FY 2001 grants

Section III—Request for comments on program implementation in FY 2002 and beyond

Section IV—Solicitation of applicants for FY 2001 grants

Section I—Program Background and Implementation of the NCPD/CBI Discretionary Program in FY 2000

The FHWA has been implementing the NCPD/CBI programs with specific goals. In developing the FY 1999 solicitation, the FHWA considered the following: Comments received at outreach sessions; information received during program discussions within the DOT; and information received during discussions between officials. The FY 1999 implementation goals were:

1. Respect both the letter and the intent of existing statutes.

2. Minimize administrative additions to statutory requirements.

3. Minimize grant application paperwork.

4. Maximize administrative control of grants by FHWA field personnel rather than FHWA Headquarters personnel.

5. Encourage substantive coordination of grant applications and grant administration by State and local officials.

6. Encourage appropriate private/public, State/local, intermodal, interregional, multistate and multinational coordination.

7. Encourage grant applications that have realistic objectives and time horizons.

In FY 2001, no additional goals are being added; however, as stated in the subsection below entitled, “Selection Criteria Common to Both Programs,” the Administrator is encouraging submission of certain types of proposals.

Summary of Selection Process—FY 2000

In July 1999, a two-year action plan to target the DOT's efforts for 1999 and 2000 was developed. This action plan includes a list of key activities for each Strategic Goal and Corporate Management Strategy for the DOT, which is drawn from the Department's Strategic Plan, Performance Plans, and other existing planning documents. These key activities are called “Flagship Initiatives.” The corridor and border programs were designated as a flagship initiative in the spring of 1999. The members of the flagship team are listed at the URL: http://www.fhwa.dot.gov/hep10/corbor/flagteam.html. The strategic plan of the flagship is stated at the URL: http://www.fhwa.dot.gov/hep10/corbor/flagplan.html. This team has been put together to coordinate and focus the U.S. DOT's efforts, identify current issues, and to develop a work plan. One of the Flagship's efforts was to sponsor a series of workshops to publicize the Corridors and Borders program and highlight this year's application process. The FHWA held a series of workshops in the autumn of 1999 in Baltimore, Maryland; Chicago, Illinois; Atlanta, Georgia; Seattle, Washington; and Phoenix, Arizona. The workshops were announced in the Federal Register on September 29, 1999. Invitees included Federal, State, and local government employees; MPO staff; and representatives from a number of trade and citizen groups. In announcing the workshops, Secretary Slater said, “The corridors and borders program is a key part in President Clinton's goal to support the North American Free Trade Agreement by providing safe highways for moving people and goods between Canada, Mexico, and the United States. These workshops were designed to benefit States and communities that want to take advantage of the program.”

There were two subjects on which comment was pervasive during these workshops. The first subject was opposition to earmarks (most attendees were working on applications that did not have earmarks). The second was a desire to have the awards announced earlier in the fiscal year to allow more time for obligation within that fiscal year. Both of these comments were made to the docket and FHWA's response will be given there.

There were no other comments that were pervasive. The following is a sampling of comments from each of the workshops:

Baltimore: Unless there is some closure from these meetings, participants are right back where they started. Protecting the environment should also be made a key strategic goal for the program. Delays at borders cause a lot of air pollution.

Chicago: In the list of important project criteria, connectivity of system was not listed. Not many projects are being funded that are intermodal in nature. The FHWA should put together a session with some of the workshop attendees and congressional staff. More sites close to borders should be selected for project funding.

Atlanta: Several participants noted the STIP/TIP conundrum: They need to get projects listed on the STIP or TIP to receive the Corridors and Borders grants, but it is difficult to get projects listed ahead of time.

Seattle: The Corridors and Borders program is like manna from heaven in that attention is being paid to freight mobility. These programs allow us to walk before we run.

Phoenix: States should be able to sign on to multistate projects without displacing their own prioritized projects.

The workshops were also designed to solicit input from participants on evaluation measures for the program, as well as the program's future direction. Again, many suggestions were made, but no pervasive theme emerged. Additionally, at each workshop representatives of projects receiving FY 1999 funding made presentations. Finally, at each workshop, a number of opportunities were provided to ask specific questions about the application process. Answers were provided consistent with those on the website at URL: http://www.fhwa.dot.gov/hep10/corbor/qa2k.html.

Of the $122 million available for the program in FY 2000, approximately $60 million had been designated by the Congress to specific projects by the time of the workshops. The legislative language containing the projects earmarked for FY 2000 is available at URL: http://www.fhwa.dot.gov/hep10/corbor/earmark.html and URL: http://www.fhwa.dot.gov/hep10/corbor/cb99y.html. Both pieces of legislative language were developed during the FY 2000 appropriations process. As has been discussed, there was much opposition to this decision, along with a concern that the process of earmarking projects under a program like the NCPD/CBI ultimately defeats the purpose of the TEA-21. In spite of the earmarks, the FHWA received over 150 applications for NCPD/CBI funding, all of which were at least partially eligible (e.g., some applications included work components that were not eligible and also included work components that were eligible) for consideration. The requests for funding totaled approximately $2 billion.

The FHWA established an evaluation panel comprised of officials from various agencies within the DOT (e.g., the Federal Railroad Administration, the Maritime Administration, the Federal Motor Carrier Safety Administration, the Office of the Secretary of Transportation, as well as the FHWA) which reviewed the applications and tabulated summaries of applications. The evaluation panel identified applications that were “well qualified” and those which were “qualified” based on summary information prepared by the FHWA program office (e.g., coordination status, positive aspects and other aspects of each application). We expect to follow a similar process with the FY 2001 grant applications.

On June 9, 2000, U.S. Transportation Secretary Rodney E. Slater announced that $121.8 million in grants will be provided to 29 states for 65 projects as part of the NCPD/CBI programs for FY 2000. The FY 2000 NCPD/CBI program grant recipients, by state, project and total allocation, are listed at the URL: http://www.fhwa.dot.gov/hep10/corbor/recip00.html. In addition, a report, for the fiscal quarter covering the FY 2000 selections, containing the reasons for selection of projects, is required by section 1311 of the TEA-21, as amended. At the time of this notice, the report is not available. When completed, it will also be available on FHWA's website: http://www.fhwa.dot.gov/discretionary/quarterly.html.

Summary of Comments to Docket No. FHWA-98-4622

The August 30, 1999, Federal Register notice (64 FR 47222) requested comments on how the NCPD/CBI programs implementation could be improved in FY 2001, as well as other aspects of the program. Commenters were asked specifically for improvements that could be made at the discretion of the FHWA that would more effectively meet the seven goals established for the program.

The following organizations submitted letters to the docket (FHWA-98-4622):

North America's Superhighway Coalition, Inc. (NASCO)

CAN/AM Border Trade Alliance

Eastern Border Transportation Coalition

Puget Sound Regional Council

Border Trade Alliance

The Honorable Henry Bonilla, 23rd District, Texas

Pennsylvania Turnpike Commission

Freeport Business Centre

Members of Congress: The Honorable Henry Bonilla, Charles A. Gonzalez, Ciro D.

Rodriguez and Lamar S. Smith

Wisconsin Department of Transportation

New York Department of Transportation

Although no specific comment was raised by more than one or two of the letters, there were a number of comments that addressed similar issues or discussed similar problems. There was general concern and disappointment in the earmarking of corridors and borders funds. The Pennsylvania Turnpike Commission (the Commission) stated that the efforts of the FHWA to provide information at the corridors and borders workshops and through widespread notice of the solicitation was misleading due to the earmarks. It is the Commission's opinion that based on the number and size of fiscal year 1999 requests and fiscal year 2000 earmarks, the corridors and borders programs should be separated and given increased funding. The New York State DOT suggested that if, for FY 2001, the Congress earmarks corridor and border projects, consideration should be given to balancing the distribution of program funding to ensure that both corridor and border needs are addressed.

With respect to earmarks, the FHWA acknowledges the fact that those applicants who feel their application has a reduced funding potential because of the earmarks will be unhappy about this situation. The FHWA's longstanding agency position is to oppose earmarks. However, notwithstanding the above, the FHWA has, in the past, faithfully administered earmark legislation and congressional direction, and will do so in the future.

With respect to separation of the funding into “corridor only” and “border only” components, the FHWA notes that the report “Listening to America,” which summarized the outreach sessions preceding the FY 1999 solicitation, stated that “there was widespread agreement that funding for the two programs should be kept together, rather than identifying separate amounts for each.” Although some commenters felt otherwise then, and feel otherwise now, the FHWA does not believe that the prior noted consensus has changed substantially.

The use of electronic submittals in FY 2001 for the narrative portion of the application received mixed responses. Many commenters noted the difficulty that the FHWA may encounter when transferring information such as graphics and visual aids. The Wisconsin DOT stated that, although the preparation of a grant proposal is a significant part of any grant process, the graphics and visual aids that generally accompany a proposal are also an important component. Furthermore, it was suggested that if the FHWA intends to include this requirement in future processes, the processes to ensure that the grant proposals will be reviewed in their entirety must first be put in place.

To provide substantial flexibility to applicants, the FHWA will allow electronic submittals for FY 2001 as an option as well as allowing hard copy submittals. Based on the reviewed result of this process, the FHWA will make a decision on electronic submittals on future solicitations.

With regard to the timetable for the NCPD/CBI grant process, most of the commenters requested that the timetable be advanced. To allow States adequate time to obligate funds, the FHWA should adhere to the time frames in the announcements and award projects no later than the month of March. This will allow the States adequate time to obligate funds before the end of the fiscal year.

The FHWA is making every effort to adhere to advanced timeframes.

North America's Superhighway Coalition (NASCO) requested that Federal transportation officials allow incorporated, certified trade corridor coalitions to apply for funding through the corridors and borders programs. Currently, only States and metropolitan planning organizations can submit applications. The NASCO believes that the current application rule works well if project applications are contained geographically. However, it does not work well for project applications that are multistate or even multinational in nature. Funding should not be appropriated based on an individual project's meeting of requirements in both the borders and corridor criteria.

The FHWA appreciates the comments provided by the NASCO. However, the changes requested by NASCO cannot be made except by the Congress through a change in the statutory language.

The CAN/AM Border Trade Alliance (the Alliance) stated that the competition between the two programs for the same funds and between individual project proposals brings about excessive funding of corridor projects at the expense of border projects. The policy of providing additional funds in successive years for completing projects selected in previous years should be determined and clearly articulated. It is strongly suggested that a procedure be formalized by the U.S. DOT to assist all projects that were deemed viable and needed, although not selected for funding, so that alternative approaches for making them a reality can be formally determined.

Technical assistance is available through the FHWA Division offices. Due to the fact that conditions (physical, financial, environmental, etc.) change each year, a new application must be submitted each year. The FHWA will not re-review an old application and does not guarantee that a recipient in any year will continue to receive funding in future years.

The Eastern Border Transportation Coalition (EBTC) stated that while section 1119 is TEA-21's only border program, corridor projects have access to four programs and 120 times as much money each year from other TEA-21 programs. For this reason, the EBTC urged the allocation of the largest proportion of its corridor and border grants be awarded to the border program.

Legislation provides no means for the FHWA to administratively determine a “more border, fewer corridor projects” rulemaking provision. In addition, the statement that “section 1119 is TEA-21's only border program” is somewhat misleading. The FHWA's review of project applications showed substantial use of State, Federal formula and other Federal discretionary funds on border projects, where State DOT's have determined to focus their own efforts.

The Border Trade Alliance (BTA) suggested that the $140 million each year be spent in a way that is compatible and complimentary with the regular annual allocations to the States. Also, a scoring system should be developed that would assign higher priority for border transportation projects that provide connectivity to the identified national trade corridors. The BTA believes that the best and most productive way to allocate corridor and border funds is to place the primary emphasis on design and development of border connectivity and national corridor projects. Bricks and mortar funding should be focused on very high impact border connectivity projects, including those that serve multiple ports, and to resolving select physical bottlenecks at the border. In the development and application of a scoring or formula system, State projects that connect various parts of existing identified national trade corridors should be rated higher than those that serve only regional interests. Emphasis must be attached to all border ports-of-entry (and egress) and their complimentary trade corridors that demonstrate significant increases in traffic.

The FHWA believes that the intent of this comment is already addressed by the sixth evaluation consideration: “To adequately evaluate the extent to which selection criteria noted above are met by individual projects, the FHWA will consider the following in each application: The extent to which the project may be eligible under both the NCPD and the CBI program.”

Congressman Henry Bonilla of Texas expressed his support for the proposal for a revision of ramps providing safe and efficient access to the Freeport Business Center off Loop 410 South near I-35. This proposal will help alleviate overcrowding of existing highway infrastructure.

The FHWA appreciates the comments made by Congressman Bonilla and will give his comments and the proposal proper consideration.

The Pennsylvania Turnpike Commission endorses the introduction of the FHWA/DOT strategic goals into the project evaluation process. The Commission urged the continued acceptance of hard copy applications citing the difficulty the FHWA may encounter if information is transferred electronically.

The Freeport Business Centre (the Centre) provided comments regarding its application to the NCPD program for new access ramps off Loop 410 South, located in Bexar County, Texas. The Centre stated that this project ties in with future development of vehicular infrastructure planned by the Texas DOT to safely and efficiently provide for the more than three fold increase in traffic to and from the Mexico border.

The FHWA appreciates the comments and proposal submitted by the Centre and will give appropriate consideration to this project and its application.

The Honorable Henry Bonilla, Charles A. Gonzalez, Ciro D. Rodriguez and Lamar S. Smith, members of the U.S. Congress representing San Antonio, Texas, expressed their support for a proposal to move existing entrance and exit ramps to the previously mentioned Freeport Business Centre. The congressmen stated that this project will reduce congestion in a heavily traveled international trade corridor and will remove the dependence on border infrastructure to facilitate the growth and expansion currently experienced by increased trade with Mexico.

The FHWA appreciates the comments by the congressmen and will give appropriate consideration to this project and its application.

The Wisconsin DOT strongly encourages the FHWA to consider expanding the field office's role to include a review of the applications, with an opportunity to identify and propose recommendations for the U.S. DOT evaluation panel's review and possible approval. It is also suggested that grant recipients be allowed to carry over funds into the next fiscal year. If electronic processing will be a future requirement for submitting grant proposals, it was suggested that a process be put in place to ensure grant proposals are reviewed in their entirety.

The FHWA field offices are already involved in the process of reviewing applications. The FHWA will consider an expansion of this involvement.

The New York State DOT stated that the benefits of the corridors and borders programs should be maximized; FHWA guidance and criteria should be clear that projects awarded funds must use the funding to complete a funding package rather than a substitute for other funds currently in place.

The FHWA believes the intent of the comment is effectively covered by the “leveraging” criterion (#5 for NCPD, #4 for CBI) combined with the “likelihood of completion of a useable project or project” evaluation consideration.

Section II—Eligibility and Selection Criteria for FY 2001 Grants

In general, the eligibility and selection criteria for FY 2001 grants are the same as those used for FY 2000 grants.

Eligibility—NCPD Program

Projects eligible for funding include the following:

1. Feasibility studies.

2. Comprehensive corridor planning and design activities.

3. Location and routing studies.

4. Multistate and intrastate coordination for corridors.

5. Environmental review or construction after review by the Secretary of a development and management plan for the corridor or useable section of the corridor (hence called “corridor plan”).

The FHWA considers work in the pre-feasibility stage of a project, e.g., development of metropolitan and State plans and programs, as not eligible for support with Federal aid under section 1118 funds (although funds authorized by other portions of the TEA-21 are eligible for such support), but project development planning is eligible for support and multistate freight planning is specifically encouraged herein.

The FHWA construes the phrase “environmental review,” as used above, as being the portion of the environmental documentation, e.g., environmental assessment/finding of non-significant impact (EA/FONSI), environmental impact statement (EIS) process requiring formal interagency review and comment. Thus, even without review of the corridor plan, work needed to produce the pre-draft EIS and to revise the draft would be eligible for support with Federal aid under section 1118. However, work subsequent to FHWA signature of the draft EIS (or equivalent) would not be eligible for such support until review of the corridor plan. Subsequent to such a review, work on a final EIS and any other necessary environmental work would be eligible for funding under this section.

Eligibility for funds from the NCPD program is limited to high priority corridors identified in section 1105(c) of the ISTEA, as amended, and any other significant regional or multistate highway corridors selected by the Secretary after consideration of the criteria listed for selecting projects for NCPD funding. Fund allocation to a corridor does not constitute designation of the corridor as a high priority corridor. The FHWA has no statutory authority to make such a designation.

Eligibility—CBI Program

Projects eligible for funding include the following:

1. Improvements to existing transportation and supporting infrastructure that facilitate cross border vehicle and cargo movements.

2. Construction of highways and related safety and safety enforcement facilities that will facilitate vehicle and cargo movements related to international trade.

3. Operational improvements, including improvements relating to electronic data interchange and use of telecommunications, to expedite cross border vehicle and cargo movement.

4. Modifications to regulatory procedures to expedite cross border vehicle and cargo movements.

5. International coordination of planning, programming, and border operation with Canada and Mexico relating to expediting cross border vehicle and cargo movements.

6. Activities of Federal inspection agencies.

The statute requires projects to be in a border region. The FHWA considers projects within 100 km (62 miles) of the U.S./Canada or U.S./Mexico border to be in a border region.

Selection Criteria for the NCPD Program Funding

The statute provides criteria to be used in identifying corridors, in addition to those statutorily designated for eligibility. These following criteria will be used for selecting projects for funding:

1. The extent to which the annual volume of commercial vehicle traffic at the border stations or ports of entry of each State has increased since the date of enactment of the North American Free Trade Agreement (NAFTA), and is projected to increase in the future.

2. The extent to which commercial vehicle traffic in each State has increased since the date of enactment of the NAFTA, and is projected to increase in the future.

3. The extent to which international truck-borne commodities move through each State.

4. The reduction in commercial and other travel time through a major international gateway or affected port of entry expected as a result of the proposed project, including the level of traffic delays at major highway/rail grade crossings in trade corridors.

5. The extent of leveraging of Federal funds, including use of innovative financing; combination with funding provided under other sections of the TEA-21 and title 23, U.S.C.; and combination with other sources of Federal, State, local, or private funding including State, local and private matching funds.

6. The value of the cargo carried by commercial vehicle traffic, to the extent that the value of the cargo and congestion impose economic costs on the Nation's economy.

7. Encourage or facilitate major multistate or regional mobility and economic growth and development in areas undeserved by existing highway infrastructure.

Specific aspects of the NCPD program require the FHWA to interpret these criteria. Based on the goals noted above in Section I, the FHWA intends to use a flexible interpretation. For example, while the date of the enactment of NAFTA was December 8, 1993, traffic data which provides an average for the calendar year 1993 could be used for the pre-NAFTA information. For another example, since businesses use both imported and domestically produced materials in a constantly changing component mix to produce higher valued products and, because interregional trade is noted as part of the purpose of the section, either interstate traffic or interregional traffic could be used as a surrogate for “international truck-borne commodities.” Similarly, where determining the value of cargo carried by commercial vehicle traffic would be impossible without using proprietary information, a reasonable surrogate could be based on the vehicle traffic multiplied by an imputed value for various classes of cargo.

Selection Criteria for the CBI Program Funding

The selection criteria in the statute are as follows:

1. Expected reduction in commercial and other motor vehicle travel time through an international border crossing as a result of the project.

2. Improvements in vehicle and highway safety and cargo security related to motor vehicles crossing a border with Canada or Mexico.

3. Strategies to increase the use of existing, underutilized border crossing facilities and approaches.

4. Leveraging of Federal funds, including use of innovative financing, combination of such funds with funding provided under other sections of the TEA-21 and combination with other sources of Federal, State, local or private funding.

5. Degree of multinational involvement in the project and demonstrated coordination with other Federal agencies responsible for the inspection of vehicles, cargo, and persons crossing international borders and their counterpart agencies in Canada and Mexico.

6. Improvements in vehicle and highway safety and cargo security in and through the gateway or affected port of entry concerned.

7. The extent to which the innovative and problem solving techniques of the proposed project would be applicable to other border stations or ports of entry.

8. Demonstrated local commitment to implement and sustain continuing comprehensive border or affected port of entry planning processes and improvements programs.

As in the NCPD program criteria, the FHWA intends to use a flexible interpretation of the CBI program selection criteria. For example, because local (e.g., business association, civic, county, municipal, utility) agencies and organizations sometimes have very small capital improvement budgets, that local commitment for continuing planning and improvement will be considered in the context of local program cooperation with State projects in the border regions, as well as in the context of local financial support for such projects.

Selection Criteria Common to Both Programs

Although all Federal-aid programs relate to the achievement of the FHWA's strategic goals—safety, mobility, productivity, environment, and national security—these discretionary programs apply most directly to fulfillment of the safety, mobility, and productivity goals. In addition, Departmental policy, related Federal directives and the Government Performance and Results Act of 1993, Public Law 103-62, 107 Stat. 285, emphasize the use of coordinated agency strategies and advanced technology applications to achieve goals in a cost-effective and environmentally sound manner. As noted in the Administrator's message accompanying the 1998 FHWA National Strategic Plan, the strategic goals and policies, “guide FHWA decisions on a day-to-day basis, and will help our partners to frame their own agendas within a context that contributes to achieving these broad national goals.” In accordance with this guidance, in making selections, the Administrator will emphasize proposals related to motor carrier safety enforcement facilities, integrated trade transportation processing systems to improve border crossings, multistate freight planning efforts, and applications of operational strategies, including ITS applications.

In addition, the Administrator encourages comprehensive proposals to develop, implement, and evaluate model border crossings. Such proposals may, for example, combine operational, institutional, and infrastructure elements to improve efficiency and safety and integrate with operations strategies along major trade corridors, and may include shared facilities or other mechanisms to harmonize international border clearance.

Finally, the concept of equity was important in the development of the TEA-21. National geographic distribution among all discretionary programs and congressional direction or guidance will be considered by the Administrator in the selection of projects for discretionary funds.

Evaluation Considerations for Both the NCPD and the CBI Program

To adequately evaluate the extent to which selection criteria noted above are met by individual projects, the FHWA will consider the following in each grant application:

1. The extent to which the project will help meet the FHWA and the DOT strategic goals as noted above, including where possible a description of the anticipated benefits of the project, and where appropriate estimated levels of such benefits.

2. Likelihood of expeditious completion of a useable project or product.

3. Size, in dollars, of the program grant request in comparison to likely accomplishments (e.g., grant requests that exceed about 10 percent of the available NCPD and CBI program funding in a given year would be expected to be subject to extra scrutiny to determine whether the likely consequences would be commensurate with that level of funding).

4. Clarity and conciseness of the grant application in submission of the required information.

5. State priorities and endorsement of, or opposition to, projects by other States, MPOs and other public and private agencies or organizations, as well as the status of the project on the State transportation improvement program (STIP) and the metropolitan transportation improvement program (TIP).

6. The extent to which the project may be eligible under both the NCPD and the CBI program.

Section III—Request for Comments on Program Implementation in FY 2002 and Beyond

As noted, the FHWA is allowing, as an option, the use of electronic submittals for FY 2002 for the narrative portion of the application (not maps). Consequently, the FHWA is specifically requesting comments on this aspect of program implementation. In addition, agencies that wish to reconsider their previous comment(s) or make additional comments on other aspects of program implementation are invited to do so. The docket number noted in the beginning of this notice should be referenced.

Section IV—Solicitation of Applications for FY 2001 Grants

As in previous years, applications for FY 2001 grants are to be sent to the division office in the State where the applicant is located or to the division office in the lead State, where a project is in more than one State.

Note: Please provide 3 copies of grant applications.

When sending in applications, the States and MPOs must understand that a qualified project may or may not be selected. It may be necessary to supplement NCPD and CBI program funds with other Federal-aid and/or other funds to complete a useable project or product. Allocations of FY 2001 funds will be made considering the degree to which proposed projects are viable and implementation schedules are realistic.

While there is no prescribed format for project submission, the FHWA has provided a sample application format. If used, this format provides all the information needed to fairly evaluate candidate projects. The summary section is a particularly important piece of the submittal package, since the information in the summary is to be used for congressional notification in case the project is selected for allocation. The FHWA expects that, except for especially complex or geographically extensive projects, applications (excluding the corridor plan which is to be a separate document) would not exceed 12 pages in length and the summary would be one page in length. Applications that do not include all the described information may be considered incomplete. The sample application format and summary format are:

Format for Application for NCPD or CBI Discretionary Funds

1. State (if a multistate or multi MPO project, list the lead State/MPO and participating States/MPO);

2. Congressional high priority corridor number(s), if applicable;

3. County(ies) or Parish(es);

4. U.S. Congressional District(s) and name of U.S. Representative(s) in the District(s);

5. Project Location, including a map or maps (no more than two, except for extraordinarily complex projects) with U.S., State, local numbered routes and other important facilities clearly identified;

6. Project objectives and benefits;

7. Proposed work, identifying which specific element(s) of work corresponds to each of the list of eligible NCPD and/or CBI work types and disaggregating the work into phases, if applicable;

8. Planning, programming, coordinating and scheduling status: Identifying whether the project is included, or expected to be included, in State and MPO plans and programs (e.g., STIPs and TIPs); noting consistency with plans and programs as developed by empowerment zone and enterprise community organizations; noting consistency with air quality plans; noting coordination with inspection agencies and with Canada and Mexico; and, stating the expected project initiation, milestone and/or project component completion and overall project completion dates;

9. Current and projected traffic (auto, heavy truck, and, if applicable, light truck, pedestrian, bicycle, transit vehicle, railcar, etc.) and motor carrier and highway safety information for significant facilities integral to the project;

10. Financial information and projections, including: Total estimated cost of improvement to the overall corridor or border facility; a listing by year and source of previous funding (if part of a larger project, this should include previous funding for the overall project) from all sources; and a listing, by year, amount and source, of other funds committed to the project or useable portions of the project;

11. Infrastructure condition information, applicable to infrastructure improvement projects where, at the time of the application, the facilities to be improved are reasonably known;

12. Information regarding ownership, applicable to infrastructure improvement projects where, at the time of the application, the facilities to be improved are reasonably known;

13. Maintenance responsibility applicable to infrastructure improvement projects where, at the time of application, the facilities to be improved are reasonably known;

14a. Other information needed to specifically address the seven selection criteria for NCPD program funding (e.g., increase in commercial traffic); and/or

14b. Other information needed to specifically address the eight selection criteria for CBI program funding (e.g., reduction in travel time);

15. Amount of NCPD program and/or CBI program funds requested, as well as written confirmation of the source and amount of non-Federal funds that make up the non-Federal share of the project;

16. Willingness to accept partial funding including, if applicable, the minimum amount of discretionary funding that will result in a useable product or project (If not unambiguously indicated, the FHWA will construe that partial funding is acceptable);

17a. The priority within the State (or lead State) assigned to the application, relative to other applications submitted by that State, that is a clearly defined e.g., priority one or priority two, (not a qualified priority such as priority one for CBI or priority one for planning); or

17b. If applicable, the reason(s) why a priority was not assigned or why an ambiguous priority was assigned;

18. Public endorsements of, expectations for or opposition to the project by public and private organizations who expect to use the work to be funded by the grant as well as those who expect to benefit or be adversely affected, directly or indirectly, from such work (a summary of such endorsements, delineating the oral from the written, and if appropriate, the extent of the support, is needed; however, copies of endorsements are not needed and should not be included in the application;

19a. A summary of the corridor plan, for those applications for the NCPD program where the work to be funded includes environmental review or construction and where the project is not on a corridor identified by section 1105(c) of the ISTEA, as amended (for other NCPD applications this item is optional);

19b. Corridor plan, separate from the rest of the application, for those applications for the NCPD program where the work to be funded includes environmental review or construction;

20. Performance measures in support of the FHWA Strategic Plan; and

21. Summary sheet covering basic project information to be used for congressional notification if the project is selected for funding (see below).

Format for SUMMARY SHEET.

Application for NCPD or CBI Discretionary Funds.

Grantee: List full name of agency.

U.S. Representative/Senator(s): List full names.

Governor/Mayor(s): List full names.

Project: Short name and brief description of project (e.g., This project provides for widening by one lane in each direction of * * * extending from * * * in the vicinity of * * * to * * * in the vicinity of * * * a distance of * * * This improvement will serve * * * and * * * will result in major safety/time savings * * * to * * *).

FHWA Funds Requested: Exclude non-Federal share.

Other Funds Committed: Specify source and amounts.

Other Support: List agencies providing substantive assistance.

Other Important Information: (e.g., improved access to Indian Reservation, expected improvement to local economy, specify phase of project or corridor development, specify on going projects that will be coordinated with this one, identify environmental features, construction scheduling—all if appropriate).

(Authority: 23 U.S.C. 315; secs. 1118 and 1119, Pub. L. 105-178, 112 Stat. 107, at 161 (1998); and 49 CFR 1.48)

Issued on: June 13, 2000.
Cynthia J. Burbank,
Program Manager, Environment and Planning.

[FR Doc. 00-15320 Filed 6-15-00; 8:45 am]

BILLING CODE 4910-22-P